FEDERAL COMMUNICATIONS COMMISSION

Notice of Public Information Collection(s) Being Reviewed by the Federal Communications Commission, Comments Requested

May 29, 2007.

SUMMARY: The Federal Communications Commission, as part of its continuing effort to reduce paperwork burden, invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information, subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 6, 2007. If you anticipate that you will be submitting comments, but find it difficult to do so within the period of time allowed by this notice, you should advise the contact listed below as soon as possible.

ADDRESSES: You may submit all Paperwork Reduction Act (PRA) comments by e-mail or U.S. post mail. To submit you comments by e-mail, send them to PRA@fcc.gov. To submit your comments by U.S. mail, mark them to the attention of Cathy Williams, Federal Communications Commission, Room 1-C823, 445 12th Street, SW., Washington, DC 20554 and Jasmeet Seehra, Office of Management and Budget (OMB) Desk Officer, Room 10236 NEOB, 725 17th Street, NW., Washington, DC 20503 or via Internet at Jasmeet_K._Seehra@omb.eop.gov or via fax (202) 395-5167.

FOR FURTHER INFORMATION CONTACT: For additional information about the information collection(s), send an e-mail to PRA@fcc.gov or contact Cathy Williams at 202-418-2918.

SUPPLEMENTARY INFORMATION: OMB Control Number: 3060-1089.

Title: Emergency Access Notice of Proposed Rulemaking (NPRM) and Internet-Protocol (IP) Relay/ Video Relay Service (VRS) Fraud Further Notice of Proposed Rulemaking (FNPRM); VRS Interoperability FNPRM, CG Docket No. 03-123.

Form No.: Not applicable.

Type of Review: Revision of a currently approved collection.

Respondents: Business or other for-profit entities; State, Local or Tribal Government.

Number of Respondents: 8—(6 of which provides VRS and IP Relay service; 2 of which provides VRS).

Estimated Time per Response: 4 to 1,000 hours.

Frequency of Response: Annual reporting requirement; One-time reporting requirement; On occasion reporting requirement; Recordkeeping requirement; Monthly reporting requirement; Third party disclosure requirement.

Obligation to Respond: Required to obtain or retain benefits.

Total Annual Burden: 34,688 hours.

Total Annual Costs: None.

Nature and Extent of Confidentiality: An assurance of confidentiality is not offered because this information collection does not require the collection of personally identifiable information (PII) from individuals.

Privacy Act Impact Assessment: No impact(s).

Needs and Uses: Note: The Commission is revising information collection 3060-1089 to consolidate/merge the information collection requirements of 3060-1091 into this collection per the Office of Management and Budget's (OMB) request. Presently, the Commission concludes that these two proposed information collections are similar because these collections involve same respondents and contain similar data of identifiable information in order: (1) To facilitate 911 emergency calls; (2) to improve interoperability for VRS and IP Relay services; and (3) to curtail misuse of VRS and IP Relay services. The Commission does not collect this information. The Commission requires respondents to collect this information. Once OMB approval is received for the consolidated/merged information collection requirements, the Commission will eliminate OMB information collection No. 3060-1091.

On November 30 2005, the Commission released a Notice of Proposed Rulemaking (NPRM), CG Docket No. 03-123, which addressed the issue of access to emergency services for Internet-based forms of Telecommunications Relay Services (TRS), namely VRS and IP Relay Service. The Commission sought to adopt means to ensure that such calls promptly reach the appropriate emergency service provider. By doing so, the NPRM sought comment on various issues: (1) Whether the Commission should require VRS and IP Relay service providers to establish a registration process in which VRS and IP Relay service users provide, in advance, the primary location from which they will be making VRS or IP Relay service calls (the Registered Location), so that a communication assistant (CA) can identify the appropriate Public Safety Answering Point (PSAP) to contact; (2) should VRS and IP Relay providers be required to register their customers and obtain a Registered Location from their customers so that they will be able to make the outbound call to the appropriate PSAP; (3) whether there are other means by which VRS and IP Relay service providers may obtain Registered Location information, for example, by linking the serial number of the customer VRS or IP Relay service terminal or equipment to their registered location; (4) any privacy considerations that might be raised by requiring VRS and IP Relay service users to provide location information as a prerequisite to using these services; (5) whether, assuming some type of location registration requirement is adopted, the Commission should require specific information or place limits on the scope of information that providers should be able to obtain; (6) whether the Commission should require VRS and IP Relay providers to provide appropriate warning labels for installation on customer premises equipment (CPE) used in connection with VRS and IP Relay services; (7) whether the Commission should require VRS and IP Relay providers to obtain and keep a record of affirmative acknowledgement by every subscriber of having received and understood the advisory that E911 service may not be available through VRS and IP Relay or may be in some way limited by comparison to traditional E911 service; and (8) how the Commission may ensure that providers have updated location information, and the respective obligations of the providers and the consumers in this regard.

On May 8, 2006, the Commission released the Misuse of IP Relay Service and VRS Further Notice of Proposed Rulemaking, (IP Relay Fraud FNPRM), CG Docket No. 03-123, FCC 06-58 which contained the following information collection requirements involving user registration, e.g., callers register to use VRS and IP Relay and provide their requisite information as necessary: The IP Relay Fraud FNPRM sought comment on: (1) Whether IP Relay and VRS providers should be required to implement user registration system in which users provide certain information to their providers, in advance, as a means of curbing illegitimate IP Relay and VRS calls; (2) what information should be required of the user; (3) whether there are steps that could be taken, or technology implemented, to prevent the wrongful use of registration information; and (4) whether the Commission should require VRS and IP Relay providers to maintain records of apparently illegitimate calls that were terminated by the providers.

On May 9, 2006, the Commission released the VRS Interoperability Declaratory Ruling and Further Notice of Proposed Rulemaking (Interoperability FNPRM), In the Matter of Telecommunications Relay Services and Speech-to-Speech Services for individuals with Hearing and Speech Disabilities, CG Docket No. 03-123, FCC 06-57. In the Interoperability FNPRM, the Commission sought comment on the feasibility of establishing a single, open, and global database of proxy numbers for VRS users that would be available to all service providers, so that a hearing person can call a VRS user through any VRS provider, and without having first to ascertain the VRS user's current IP address. The Commission also sought comment on nature of the proxy numbers that might be used and how they might be administered. The Commission sought comment on the role of the Commission in creating and maintaining the database. In the Interoperability FNPRM, the Commission recognized: (a) That when a hearing person contacts a VRS user by calling a VRS provider, the calling party has to know in advance the IP address of the VRS user so that the calling party can give that address to the VRS CA (b) that because most consumers' IP addresses are dynamic, the VRS consumer may not know the IP address of his or her VRS equipment at a particular time; (c) that some VRS providers have created their own database of “proxy” or “alias” numbers that associate with the IP address of their customers, even if a particular person's IP address is dynamic and changes; (d) that databases are maintained by the service provider and, generally, are not shared with other service providers; and (e) that a person desiring to call a VRS consumer via the consumer's proxy number can only use the services of the VRS provider that generates the number. The Interoperability FNPRM contained the following information collection requirements involving an open, global database of VRS proxy numbers. The Interoperability FNPRM sought comment on: (1) Whether VRS providers should be required to provide information to populate an open, global database of VRS proxy numbers and to keep the information current; (2) whether the Interstate TRS Fund administrator, a separate entity, or a consortium of service providers should be responsible for the maintenance and operation of an open, global database of VRS proxy numbers; (3) whether Deaf and hard of hearing individuals using video broadband communication need uniform and static end-point numbers should be linked to the North American Numbering Plan (NANP) that would remain consistent across all VRS providers so that they can contact one another and be contacted to the same extent that Public Switched Telephone Network (PSTN) and VoIP users are able to identify and call one another; (4) whether participation by service providers should be mandatory so that all VRS users can receive incoming calls.

Federal Communications Commission.
Marlene H. Dortch,
Secretary.

[FR Doc. E7-10897 Filed 6-5-07; 8:45 am]

BILLING CODE 6712-01-P